DEPARTMENT OF LABOR

Employment and Training Administration

[TA-W-37,208, et al.]

Tultex Corporation, South Boston, Virginia; Amended Certification Regarding Eligibility To Apply for Worker Adjustment Assistance

In accordance with Section 223 of the Trade Act of 1974 (19 U.S.C. 2273) the Department Labor issued a Certification of Eligibility to Apply for Worker Adjustment Assistance on January 13, 2000, applicable to workers of Tultex Corporation, South Boston, Virginia. The notice was published in the Federal Register on February 4, 2000 (65 FR 5690).

At the request of the company, the Department reviewed the certification for workers of the subject firm. The workers are engaged in employment related to the production of fleece activewear. New findings show that California Shirt Sales, Inc., is a wholly owned subdivision of Tultex Corporation. Worker separations occurred at various locations of California Shirt Sales when Tultex Corporation closed all locations, including the South Boston, Virginia plant, in February, 2000. The workers provided distribution of finished fleece activewear manufactured by Tultex Corporation to its customers.

The intent of the Department's certification is to include all workers of Tultex Corporation who were adversely affected by increased imports.

The amended notice applicable to TA-W-37,208 is hereby issued as follows:

All workers of Tultex Corporation, South Boston, Virginia (TA-W-37,208) and California Shirt Sales, Inc., Fullerton, California (TA-W-37,208A), Honolulu, Hawaii (TA-W-37,208B), Las Vegas, Nevada (TA-W-37,208C), Oakland, California (TA-W-37,208D), Kent, Washington (TA-W-37,208F) and Tempe, Arizona (TA-W-37,208G) who became totally or partially separated from employment on or after December 16, 1998 through January 13, 2002 are eligible to apply for adjustment assistance under Section 223 of the Trade Act of 1974.

Signed at Washington, DC this 7th day of April, 2000.
Grant D. Beale,
Program Manager, Division of Trade Adjustment Assistance.

[FR Doc. 00-9976 Filed 4-20-00; 8:45 am]

BILLING CODE 4510-30-M